DEPARTMENT OF HEALTH AND HUMAN SERVICES

Administration for Children and Families

Agency Recordkeeping/Reporting Requirements Under Emergency Review by the Office of Management and Budget (OMB)

Title: Immediate Disaster Case Management Intake Assessment.

OMB No.: 0970-New.

Description

Section 426 of the Robert T. Stafford Disaster Relief and Emergency Assistance Act (Stafford Act), as amended, 42 U.S.C. 5189d authorizes the Federal Emergency Management Agency (FEMA) and the U.S. Department of Health Services' Administration for Children and Families (ACF) to provide Immediate Disaster Case Management (IDCM) services under the federal Disaster Case Management Program (DCMP).

The use of the Electronic Case Management Record System (ECMRS) is aligned with Executive Order of the President 13589 and the memorandum to the Heads of Executive Departments and Agencies M-12-12 from the Office of Management and Budget to “Promote Efficient Spending to Support Agency Operations.”

The primary purpose of the information collection pertains to ACF/OHSEPR's initiative to improve the intake process and delivery of case management services to individuals and households impacted by a disaster. Further, the information collection will be used to support ACF/OHSEPR's goal to quickly identify critical gaps, resources, needs, and services to support State, local and non-profit capacity for disaster case management and to augment and build capacity where none exists.

There are two versions of this Paper Reduction Act request: (1) paper intake assessment that will be used until ECMRS is implemented and operational and (2) Electronic Case Record platform. The ECMRS will greatly reduce respondent burden through built-in algorithms that will streamline response options and patterns. All information gathered will be exclusively used to inform the delivery of disaster case management services and programmatic strategies and improvements.

Respondents: Individuals impacted by a major disaster.

Annual Burden Estimates
Instrument | Number of respondents | Number of responses per respondent | Average burden hours per response | Total burden hours
IDCM Intake Assessment | 3,500 | 1 | 40 minutes | 140,000 minutes
Estimated Total Annual Burden Hours: 140,000 minutes.

Additional Information

ACF is requesting that OMB grant a 180 day approval for this information collection under procedures for emergency processing by June 19, 2015. A copy of this information collection, with applicable supporting documentation, may be obtained by calling the Administration for Children and Families, Reports Clearance Officer, Robert Sargis at (202) 690-7275.

Comments and questions about the information collection described above should be directed to the Office of Information and Regulatory Affairs, Attn: OMB Desk Officer for ACF, Office of Management and Budget, Paperwork Reduction Project, 725 17th Street NW., Washington, DC 20503; FAX: (202) 395-7285; email:oira_submission@omb.eop.gov.

Robert Sargis,
Reports Clearance Officer.

[FR Doc. 2015-14400 Filed 6-11-15; 8:45 am]

BILLING CODE 4184-01-P